DEPARTMENT OF TRANSPORTATION

[Docket No. DOT-OST-2004-16951]

Request for Comments of a Previously Approved Information Collection

AGENCY: Office of the Secretary, DOT.

ACTION: Notice and request for comments.

SUMMARY: In compliance with the Paperwork Reduction Act of 1995, this notice announces that the Information Collection Request (ICR) abstracted below is being forwarded to the Office of Management and Budget (OMB) for review and comments. A Federal Register Notice with a 60-day comment period soliciting comments on the following information collection was published on June 3, 2022. No comments were received.

DATES: Comments must be submitted on or before September 7, 2022.

ADDRESSES: Send comments regarding the burden estimate, including suggestions for reducing the burden, to the Office of Management and Budget, Attention: Desk Officer for the Office of the Secretary of Transportation, 725 17th Street NW, Washington, DC 20503.

Comments are invited on: whether the proposed collection of information is necessary for the proper performance of the functions of the Department, including whether the information will have practical utility; the accuracy of the Department's estimate of the burden of the proposed information collection; ways to enhance the quality, utility and clarity of the information to be collected; and ways to minimize the burden of the collection of information on respondents, including the use of automated collection techniques or other forms of information technology.

FOR FURTHER INFORMATION CONTACT: Barbara Snoden, (202) 366-4834, Office of Aviation Analysis, Office of the Secretary, U.S. Department of Transportation, 1200 New Jersey Avenue SE, Washington, DC 20590.

SUPPLEMENTARY INFORMATION:

Title: Exemptions for Air Taxi Operations.

OMB Control Number: 2105-0565.

Type of Request: Renewal of a Previously Approved Information Collection.

Abstract: Part 298 of title 14 of the Code of Federal Regulations, Exemptions for Air Taxi Registration, establishes a classification of air carriers known as air taxi operators that offer on-demand passenger service. The regulation exempts these small operators from certain provisions of the Federal statute to permit them to obtain economic authority by filing a one-page, front and back, OST Form 4507, Air Taxi Operator Registration, and Amendments under part 298 of DOT's Regulations.

The number of respondents and the total annual burden have been updated since the 60-day Notice was published. This 30-day Notice reflects the change in number of new air taxi registrations and amended air taxi registrations expected by DOT.

DOT expects to receive 50 new air taxi registrations and 2,000 amended air taxi registrations each year, resulting in 2,050 total respondents. Further, DOT expects filers of new registrations to take 1 hour to complete the form, while it should only take 30 minutes to prepare amendments to the form. Thus, the total annual burden is expected to be 1,050 hours.

Affected Public: U.S. air taxi operators.

Number of Respondents: 2,050.

Frequency: On occasion.

Number of Responses: 2,050.

Total Annual Burden: 1,050 hours.

Authority: The Paperwork Reduction Act of 1995; 44 U.S.C. chapter 35, as amended; and 49 CFR 1:48.

Issued in Washington, DC, on August 3, 2022.
Damon D. Walker,
Transportation Industry Analyst, Air Carrier Fitness Division, Office of Aviation Analysis.

[FR Doc. 2022-16941 Filed 8-5-22; 8:45 am]

BILLING CODE 4910-9X-P